DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 17, 2022.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 8, 2022.
Donald P. Burger,
Chief, General Approvals and Permits Branch.

Application No. | Applicant | Regulation(s) affected | Nature of the special permits thereof
Special Permits Data—Granted
8228-M | Bureau Of Alcohol Tobacco, Firearms & Explosives | 172.101(c), 172.102(c)(1), 172.203(k), 173.56(b) | To modify the special permit to remove paragraph 7.b. from the special permit.
11859-M | Mission Systems Orchard Park Inc | 173.301(f), 178.65, 173.302(a)(1) | To modify the special permit to authorize a new part number.
13027-M | Hernco Fabrication & Services, Inc | 173.241, 173.242, 173.243, 173.202, 173.203 | To modify the special permit to authorize additional hazardous materials.
20357-M | Jingmen Hongtu Special Aircraft Manufacturing Co., Ltd | 178.274(b), 178.276(b)(1) | To modify the special permit to authorize ammonia and different packaging.
21018-M | Packaging And Crating Technologies, LLC | 172.200, 172.300, 172.400, 172.600, 172.700(a), 173.185(b), 173.185(c), 173.185(f) | To modify the special permit to clarify certain requirements, to remove certain packaging specifications, and to remove certain paperwork requirements.
21139-M | KULR Technology Corporation | 172.200, 172.700(a), 173.185(b) | To modify the special permit to increase the authorized aggregate energy content of a single inner package to 2.5 kWh.
21167-M | KULR Technology Corporation | 173.185(a)(1), 172.101(j) | To modify the special permit to increase the authorized aggregate energy content of a single inner package to 2.5 kWh.
21193-M | KULR Technology Corporation | 172.200, 172.300, 172.700(a), 172.400, 172.500, 172.600, 173.185(f) | To modify the special permit to increase the authorized aggregate energy content of a single inner package to 2.5 kWh.
21324-N | Absolute Accuracy, LLC | 173.304(d), 173.306(a)(3) | To authorize the manufacture, mark, sale, and use of certain non-DOT specification containers conforming to all regulations applicable to a DOT specification 2Q inner non-refillable metal receptacle, except as specified herein, for the transportation in commerce of hazardous materials authorized by this special permit.
21382-N | CU Aerospace LLC | 173.232(g)(3) | To authorize the transportation in commerce of compressed gases in a non-DOT specification package.
21391-N | Rothenberger USA, Inc | 172.301(c), 178.65(i)(2)(v) | To authorize the transportation in commerce of Propylene in cylinders with an incorrect manufacturer registration number.
21406-N | Quantumscape Battery, Inc | 172.200, 172.300, 172.400, 172.600, 172.700(a), 173.185(e) | To authorize the transportation in commerce of prototype lithium metal cells in non-specification packaging.
21420-N | RML Group Limited | 173.185(e), 173.185(e)(6) | To authorize the transportation in commerce of prototype and low production lithium ion batteries that have not passed the UN-required tests and exceed 35 kg net weight via cargo-only aircraft.
21423-N | Environmental Protection Agency | Subchapter C | To authorize the transportation in commerce of hazardous materials in support of the recovery and relief operations from and within New Mexico disaster areas under conditions that may not meet the Hazardous Materials Regulations (HMR).
Special Permits Data—Denied
Special Permits Data—Withdrawn

[FR Doc. 2022-20119 Filed 9-15-22; 8:45 am]

BILLING CODE 4909-60-P